DEPARTMENT OF TRANSPORTATION

Office of the Secretary

[Docket No. DOT-OST-2018-0190]

Aviation Consumer Protection Advisory Committee Matters

AGENCY: Office of the Secretary (OST), Department of Transportation (DOT).

ACTION: Notice of public meeting.

SUMMARY: The U.S. Department of Transportation (Department) announces that the public meeting of the Aviation Consumer Protection Advisory Committee (ACPAC) which was originally scheduled to be held on March 21 and 22, 2022 is rescheduled to June 28 and 29, 2022. In addition, one of the topics planned for discussion at the rescheduled meeting has changed from Airline Ticket Refunds to Airline Ancillary Service Fees.

DATES: The meeting, which was originally scheduled to be held on March 21 and 22, 2022, will now be held from 9:30 a.m.-5:00 p.m. (ET) on June 28 and 29, 2022.

ADDRESSES: The June 28 and 29 meeting will take place in-person at the DOT headquarters building, at 1200 New Jersey Avenue SE in Washington, DC, and will be livestreamed. Attendance is open to the public, up to the room's capacity. A detailed agenda will be available on the ACPAC website at least one week before the meeting.

FOR FURTHER INFORMATION CONTACT: To register for the next in-person meeting, please contact the Department by email at ACPAC@dot.gov. Attendance is open to the public subject to any capacity limitations. For further information, contact Kimberly Graber, Deputy Assistant General Counsel, by telephone at (202) 366-1695 or by email at kimberly.graber@dot.gov.

SUPPLEMENTARY INFORMATION:

I. Background

The ACPAC evaluates current aviation consumer protection programs and provides recommendations to the Secretary for improving them, as well as recommending any additional consumer protections that may be needed.

On November 11, 2021, the Department issued a Federal Register notice announcing two meetings of the ACPAC, the first to be held on December 2, 2021 and the second to be held on March 21 and 22, 2022. The ACPAC held the December 2, 2021 meeting as planned. One of the topics discussed at the December 2, 2021 meeting was Airline Ticket Refunds. The Department planned to continue discussion of the Airline Ticket Refunds topic at the March 21 and 22, 2022 meeting concurrently with the projected date of the public comment period for the Notice of Proposed Rulemaking (NPRM) on Airline Ticket Refund and Consumer Protections (RIN 2105-AF04). However, due to delays associated with the rulemaking process and the availability of the ACPAC members, the meeting originally scheduled for March 21 and 22, 2022 will now be held on June 28 and 29, 2022.

II. Agenda

As previously indicated, the Department intended to use the June 28 and 29, 2022 meeting to continue the discussion on Airline Ticket Refunds and to discuss Enhancing Consumer Access to Airline Flight Information. While the NPRM on Airline Ticket Refunds was submitted to the Office of Information and Regulatory Affairs (OIRA) for its review, the NPRM is not expected to be issued before the date of this ACPAC meeting. As a result, the Department will schedule a meeting at a future date to discuss the NPRM on Airline Ticket Refunds.

The Department still plans to discuss Enhancing Consumer Access to Airline Flight Information at the June meeting. The Executive Order on Promoting Competition in the American Economy, issued on July 9, 2021 (Competition Executive Order), directed the Department to take action to protect consumers and promote competition. Specifically, the Department is directed, among other things, to “promote enhanced transparency and consumer safeguards, as appropriate and consistent with applicable law, including through potential rulemaking, enforcement actions, or guidance documents, with the aims of: (1) Enhancing consumer access to airline flight information so that consumers can more easily find a broader set of available flights, including by new or lesser known airlines . . . .” The ACPAC will consider the topic of enhancing access to airline flight information, including examining what is meant by airline flight information and how best to ensure that consumers can more easily find a broader set of available flights.

The Competition Executive Order also directs the Department to consider initiating a rulemaking to ensure that consumers have ancillary fee information, including baggage fees, change fees, and cancellation fees at the time of ticket purchase. The Department has announced that it has initiated such a rulemaking and plans to issue a notice of proposed rulemaking on transparency of airline ancillary service fees this calendar year. The Department, after consultation with the ACPAC members, has decided to discuss enhancing airline ancillary service fees at the June 28 and 29, 2022 meeting. The ACPAC will consider how best to ensure the disclosure of ancillary service fee information to consumers and whether the sharing of information between airlines and ticket agents is needed to ensure that consumers have access to ancillary fee information when they purchase air transportation from ticket agents.

III. Public Participation

The meetings will be open to the public; however, attendance may be limited due to constraints of the physical meeting space. To register, please send an email to the Department at ACPAC@dot.gov as set forth in the FOR FURTHER INFORMATION CONTACT section. The Department is committed to providing equal access to this meeting for all participants. If you need alternative formats or services because of a disability, such as sign language interpreter or other ancillary aids, please contact the person listed in the FOR FURTHER INFORMATION CONTACT section.

Members of the public may also present written comments at any time. The docket number referenced above (DOT-OST-2018-0190) has been established for committee documents including any written comments that may be filed. At the discretion of the Chairperson or Designated Federal Officer, after completion of the planned agenda, individual members of the public may provide oral comments time permitting. Any oral comments presented must be limited to the objectives of the committee and will be limited to five (5) minutes per person. Individual members of the public who wish to present oral comments must notify the Department of Transportation via email at ACPAC@dot.gov that they wish to attend and present oral comments no later than Friday, June 21, 2022.

Speakers are requested to submit a written copy of their prepared remarks for inclusion in the meeting records and for circulation to ACPAC members by June 21, 2022. All prepared remarks submitted on time will be accepted and considered as part of the meeting's record.

IV. Viewing Documents

You may view documents mentioned in this notice at https://www.regulations.gov. After entering the docket number (DOT-OST-2018-0190), click the link to “Open Docket Folder” and choose the document to review.

Issued in Washington, DC, on or around this 25th day of May 2022.
John E. Putnam,
General Counsel.

[FR Doc. 2022-11567 Filed 5-31-22; 8:45 am]

BILLING CODE 4910-9X-P